DEPARTMENT OF THE TREASURY

Office of Foreign Assets Control

Additional Designations, Foreign Narcotics Kingpin Designation Act

AGENCY: Office of Foreign Assets Control, Treasury.

ACTION: Notice.

SUMMARY: The Treasury Department's Office of Foreign Assets Control (“OFAC”) is publishing the names of 12 entities and 17 individuals whose property and interests in property have been blocked pursuant to the Foreign Narcotics Kingpin Designation Act (“Kingpin Act”) (21 U.S.C. 1901-1908, 8 U.S.C. 1182).

DATES: The designation by the Director of OFAC of the 12 entities and 17 individuals identified in this notice pursuant to section 805(b) of the Kingpin Act is effective on October 13, 2010.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available on OFAC's Web site (http://www.treas.gov/ofac) or via facsimile through a 24-hour fax-on-demand service, tel.: (202) 622-0077.

Background

The Kingpin Act became law on December 3, 1999. The Kingpin Act establishes a program targeting the activities of significant foreign narcotics traffickers and their organizations on a worldwide basis. It provides a statutory framework for the President to impose sanctions against significant foreign narcotics traffickers and their organizations on a worldwide basis, with the objective of denying their businesses and agents access to the U.S. financial system and the benefits of trade and transactions involving U.S. companies and individuals.

The Kingpin Act blocks all property and interests in property, subject to U.S. jurisdiction, owned or controlled by significant foreign narcotics traffickers as identified by the President. In addition, the Secretary of the Treasury consults with the Attorney General, the Director of the Central Intelligence Agency, the Director of the Federal Bureau of Investigation, the Administrator of the Drug Enforcement Administration, the Secretary of Defense, the Secretary of State, and the Secretary of Homeland Security when designating and blocking the property and interests in property, subject to U.S. jurisdiction, of persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On October 13, 2010, the Director of OFAC designated 12 entities and 17 individuals whose property and interests in property are blocked pursuant to section 805(b) of the Foreign Narcotics Kingpin Designation Act.

The list of designees is as follows:

Entities

1. GENETICA GANADERA RANCHO ALEJANDRA S.P.R. DE R. L. DE C.V., Calle Alvarado No. 143, Local 5-J, Zona Centro, Ojos Negros, Domicilio Conocido, Ensenada, Baja California Norte, Mexico; Carretera Ensenada, San Felipe, Baja California Norte, Mexico; (ENTITY) [SDNTK].

2. GENETICA IMPORT-EXPORT S.P.R. DE R.L. DE C.V., Calle Alvarado No. 143, Local 5-J, Zona Centro, Ojos Negros, Domicilio Conocido, Ensenada, Baja California Norte, Mexico; Carretera Ensenada, San Felipe, Baja California Norte, Mexico; Avenida Iturbide No. 648-3, Ensenada, Baja California Norte, Mexico; Segunda No. 1576, Colonia Obrera, Ensenada, Baja California Norte, Mexico; R.F.C. GIE-030325-Q53 (Mexico); (ENTITY) [SDNTK].

3. CLUB DEPORTIVO OJOS NEGROS A.C., Conocido Poblado de Ojos Negros, Baja California Norte, Mexico; R.F.C. CDO-980604-4V7 (Mexico); (ENTITY) [SDNTK].

4. MANTENIMIENTO, AERONAUTICA, TRANSPORTE, Y SERVICIOS AEREOS S.A. DE C.V. (a.k.a. M.A.T.S.A. S.A. DE C.V.); Calle 2, Hangar 10, Lot 19, Aeropuerto Internacional de Toluca, Toluca, Mexico, Mexico; R.F.C. MAT-021004-B99 (Mexico); (ENTITY) [SDNTK].

5. CAPACITACION AERONAUTICA PROFESIONAL S.C., La Avendia Vicente Guerrero No. 749, Colonia Prados Cuernavaca, Cuernavaca, Morelos, Mexico; R.F.C. EVC-040524-CH8 (Mexico); (ENTITY) [SDNTK].

6. AERO EXPRESS INTERCONTINENTAL S.A. DE C.V. (a.k.a. AEISA; a.k.a. INTEREXPRESS); Oriente 158 No. 390-E, Colonia Moctezuma, Segunda Seccion, Delegacion Venustiano Carranza, Mexico City, Distrito Federal, Mexico; Avenida Ruben Dario, Albrook Comercial Park, Deposito No. 20, Bella Vista, Distrito de Panama, Panama; R.F.C. AIN-000713-GR7 (Mexico); (ENTITY) [SDNTK].

7. GRUPO CRISTAL CORONA S.A. DE C.V., Avenida Insurgentes No. 23, Interior 506, Piso 5, Colonia San Rafael, Delegacion Cuauhtemoc, Mexico City, Distrito Federal, Mexico; Avenida Fuentes de Piramides No. 1-604, Oficina 17, Tecamachalco, Naucalpan, Mexico, Mexico; R.F.C. GCC-030326-KUA (Mexico); (ENTITY) [SDNTK].

8. LA NUMERO UNO DE CUAUHTEMOC S.A. DE C.V. (a.k.a. CANTINA LA NUMERO UNO; a.k.a. “SALON DIANA”); Avenida Cuauhtemoc No. 150, Esq. Doctor Erazo, Colonia Doctores, Delegacion Cuauhtemoc, Mexico City, Distrito Federal, Mexico; R.F.C. NUC-940317-IN3 (Mexico); (ENTITY) [SDNTK].

9. CIRCUITO ELECTRONICO S.A. DE C.V., Tijuana, Baja California Norte, Mexico; (ENTITY) [SDNTK].

10. COPY RED S.A. DE C.V., Tijuana, Baja California Norte, Mexico; (ENTITY) [SDNTK].

11. GRUPO HORTA ZAVALA S.A. DE C.V., Boulevard Aguacaliente No. 4558-1602, Aviacion, Carranza y Pablo Sidar, Tijuana, Baja California Norte, Mexico; R.F.C. GHZ-051111-8B3 (Mexico); (ENTITY) [SDNTK].

12. COMERCIALIZADORA GONRA, Carrera 8A No. 38-53, Cali, Colombia; Matricula Mercantil No 560835-2 (Colombia); (ENTITY) [SDNTK].

Individuals

1. FLORES CACHO, Alejandro (a.k.a. CACHO FLORES, Alejandro; a.k.a. BOLANOS CACHO, Alejandro; a.k.a. ROBLES VALDEZ, Abel; a.k.a. “Guillermo LABASTIDA”; a.k.a. “Alejandro LABASTIDA”); Ojos Negros, Baja California Norte, Mexico; Carretera Acapulco, KM 8.5, Pie de la Cuesta, Acapulco, Guerrero, Mexico; Calle de Rio Nilo No. 20, Colonia Valle Dorado, Ensenada, Baja California Norte, Mexico; Montivideo No. 804, Lindavista, Mexico City, Distrito Federal, Mexico; Circuito de la Industria No. 94, Colonia Parque Ind. Lerma, Lerma, Mexico, Mexico; Avenida del Taller No. 23, Ret. 17, Colonia Jardin Balbuena, Delegacion Venustiano Carranza, Mexico City, Distrito Federal, Mexico; Calle Jaime Torres Bodet No. 207-A, Int. 201, Colonia Santa Marta La Rivera, Delegacion Cuauhtemoc, Mexico City, Distrito Federal, Mexico; Homero No. 1343, Mexico City, Distrito Federal, Mexico; Avenida Herradona No. 1328, Interlomas, Mexico City, Distrito Federal, Mexico; Calle Cantiles 42 A, Mozimba 39460, Acapulco, Guerrero, Mexico; Calle Tulipanes No. 8, Colonia Lomas Cortes, Cuernavaca, Morelos, Mexico; Calle Rancho Tetela No. 957, Colonia Rancho Tetela, Cuernavaca, Morelos, Mexico; DOB 26 Mar 1963; Alt. DOB 26 Mar 1964; POB Mexico City, Distrito Federal, Mexico; Alt. POB Guadalajara, Jalisco, Mexico; Citizen Mexico; Nationality Mexico; C.U.R.P. FOCA630326HMCLCL05 (Mexico); C.U.I.P. FOCA640326H14506669 (Mexico); R.F.C. FOCA-630326 (Mexico); R.F.C. FOCX-260363 (Mexico); R.F.C. FOCX-630326 (Mexico); R.F.C. FOCA-640326 (Mexico); Passport 01350202554 (Mexico); Electoral Registry No. FLCCAL64032609H300 (Mexico); (INDIVIDUAL) [SDNTK].

2. GARCIA SANCHEZ, Ricardo, c/o MANTENIMIENTO, AERONAUTICA, TRANSPORTE, Y SERVICIOS AEREOS S.A. DE C.V., Toluca, Mexico, Mexico; Huixquilucan, Mexico, Mexico; El Oro, Mexico, Mexico; Carranza 14, Toluca, Mexico, Mexico; DOB 05 Oct 1974; POB Mexico City, Distrito Federal, Mexico; Citizen Mexico; Nationality Mexico; C.U.R.P. GASR741005HDFRNC06 (Mexico); Passport 99370022520 (Mexico); (INDIVIDUAL) [SDNTK].

3. JASSO ROCHA, Oscar Arturo (a.k.a. JASSO SERRATOS, Oscar Arturo); Mexico City, Distrito Federal, Mexico; DOB 07 Dec 1964; POB Mexico City, Distrito Federal, Mexico; Citizen Mexico; Nationality Mexico; Passport 98330071201 (Mexico); Driver's License No. 2308565 (Mexico); C.U.R.P. JASO641207HDFSRS05 (Mexico); (INDIVIDUAL) [SDNTK].

4. TORRES GOMEZ, Enrique (a.k.a. TORRES TORRES, Enrique); Sanchez Colin No. 34 102-B, Providencia Azcapotzalco, Delegacion Azcapotzalco, Mexico City, Distrito Federal, Mexico; Guadalajara, Jalisco, Mexico; DOB 14 Mar 1956; POB Veracruz, Mexico; Citizen Mexico; Nationality Mexico; C.U.R.P. TOGE560314HVZRMN09 (Mexico); R.F.C. TOGE-560314 (Mexico); Passport 9844001514 (Mexico); (INDIVIDUAL) [SDNTK].

5. RODARTE GRIJALVA, Jose Luis, Calle Sierra del Pulpito No. 3206, Colonia Hacienda de Santa Fe, Chihuahua, Chihuahua, Mexico; Fraccionamiento Juarez, Chihuahua, Mexico; DOB 01 May 1960; POB Delicias, Chihuahua, Mexico; Citizen Mexico; Nationality Mexico; C.U.R.P. ROGL600501HCHDRS06 (Mexico); R.F.C. ROGJ-600501 (Mexico); (INDIVIDUAL) [SDNTK].

6. COBO LEDESMA, Juan Carlos (a.k.a. COBO LEDEZMA, Juan Carlos); c/o GRUPO CRISTAL CORONA S.A. DE C.V., Mexico City, Distrito Federal, Mexico; Calle de Lomas Anahuac No. 147, Colonia Lomas Anahuac, Delegacion Huixquilucan, Mexico, Mexico; Avenida Hacienda del Ciervo No. 15, Edificio Palma Blanca, Depto. 1203, Fraccionamiento Hacienda Las Palmas, Huixquilucan, Mexico, Mexico; Cali, Valle del Cauca, Colombia; DOB 08 Jun 1967; POB Cali, Valle del Cauca, Colombia; Citizen Colombia; Nationality Colombia; Cedula No. 16745922 (Colombia); Driver's License No. NO4435810 (Mexico); (INDIVIDUAL) [SDNTK].

7. GONZALEZ MEDINA, Jaime Andres (a.k.a. MARTINEZ ALVAREZ, Carlos); c/o GRUPO CRISTAL CORONA S.A. DE C.V., Mexico City, Distrito Federal, Mexico; c/o COMERCIALIZADORA GONRA, Cali, Colombia; Avenida Lomas Anahuac No. 133, Edificio A., Depto. 602, Colonia Lomas Anahuac, Delegacion Huixquilucan, Mexico, Mexico; DOB 27 Apr 1975; POB Cali, Valle del Cauca, Colombia; Citizen Colombia; Nationality Colombia; Cedula No. 94428531 (Colombia); Passport 94428531 (Colombia); C.U.R.P. GOMJ750427HNENDM06 (Mexico); (INDIVIDUAL) [SDNTK].

8. URREA LENIS, Jair Fernando, c/o GRUPO CRISTAL CORONA S.A. DE C.V., Mexico City, Distrito Federal, Mexico; Avenida Lomas Anahuac No. 133, Edificio A., Depto. 602, Colonia Lomas Anahuac, Delegacion Huixquilucan, Mexico, Mexico; Ret. de La Horquilla, Lomas de Vista Hermosa, Delegacion Cuajimalpa, Mexico City, Distrito Federal, Mexico; Valencia, Venezuela; DOB 04 Jun 1976; Alt. DOB 04 Jun 1975; POB Cali, Valle del Cauca, Colombia; Citizen Colombia; Nationality Colombia; Cedula No. 94492728 (Colombia); Passport 94492728 (Colombia); (INDIVIDUAL) [SDNTK].

9. TORO DIAZ, Diana Lorena, c/o GRUPO CRISTAL CORONA S.A. DE C.V., Mexico City, Distrito Federal, Mexico; Calle Horacio No. 1325, Colonia Polanco, Mexico City, Distrito Federal, Mexico; Calle la Martina No. 501, Colonia Polanco, Delegacion Miguel Hidalgo, Mexico City, Distrito Federal, Mexico; Avenida Hacienda de Las Palmas No. 23-2 Norte, Hacienda de Las Palmas Huixquilucan, Huixquilucan de Degollado, Mexico, Mexico; Rio Amazones No. 89-1, Cuauhtemoc, Mexico City, Distrito Federal, Mexico; Calle Rio Rhin No. 64, Colonia Juarez, Delegacion Cuauhtemoc, Mexico City, Distrito Federal, Mexico; Calle Diaz Ordaz No. 86, Colonia Acapatzingo, Municipio de Cuernavaca, Morelos, Mexico; Privada Ruiz Cortines No. 6, Municipio de Atizapan de Zaragoza, Mexico, Mexico; DOB 27 Mar 1982; POB Cali, Valle del Cauca; Citizen Colombia; Alt. Citizen Mexico; Nationality Colombia; Alt. Nationality Mexico; Cedula No. 38560572 (Colombia); Passport 38560572 (Colombia); C.U.R.P. TODD820327MNERZN04 (Mexico); R.F.C. TODD-820327 (Mexico); (INDIVIDUAL) [SDNTK].

10. DUARTE TORRES, Rafael (a.k.a. DUARTE TORRES, Orlando); Lomas de Anahuac No. 86, Mexico City, Distrito Federal, Mexico; Calle Manzana V, Coyoacan, Mexico City, Distrito Federal, Mexico; DOB 26 Aug 1964; POB Mexico; Citizen Mexico; Nationality Mexico; (INDIVIDUAL) [SDNTK].

11. RUIZ DE CHAVEZ MARTINEZ, Arturo, La Quemada No. 427, Colonia Navarte, Mexico City, Distrito Federal, Mexico; DOB 27 Jul 1961; POB Mexico City, Distrito Federal, Mexico; Citizen Mexico; Nationality Mexico; C.U.R.P. RUMA610727HDFZRR07 (Mexico); (INDIVIDUAL) [SDNTK].

12. MASSA CAMACHO, Eduardo, Mexico; DOB 07 Aug 1959; POB Mexico City, Distrito Federal, Mexico; Citizen Mexico; Nationality Mexico; C.U.R.P. MACE590807HDFSMD05 (Mexico); (INDIVIDUAL) [SDNTK].

13. FLORES CACHO, Javier, c/o LA NUMERO UNO DE CUAUHTEMOC S.A. DE C.V., Mexico City, Distrito Federal, Mexico; Avenida del Taller No. 23, Ret. 17, Colonia Jardin Balbuena, Delegacion Venustiano Carranza, Mexico City, Distrito Federal, Mexico; Martin Luis Guzman No. 259, Colonia Villa de Cortez, Mexico City, Distrito Federal, Mexico; DOB 30 Aug 1969; POB Mexico City, Distrito Federal, Mexico; Citizen Mexico; Nationality Mexico; C.U.R.P. FOCJ690830HDFLCV03 (Mexico); R.F.C. FOCJ-690830 (Mexico); (INDIVIDUAL) [SDNTK].

14. OLVERA ESTRADA, Rodolfo, c/o GENETICA GANADERA RANCHO ALEJANDRA S.P.R. DE R.L. DE C.V., Ensenada, Baja California Norte, Mexico; c/o GENETICA IMPORT-EXPORT S.P.R. DE R.L. DE C.V., Ensenada, Baja California Norte, Mexico; c/o CLUB DEPORTIVO OJOS NEGROS A.C., Conocido Poblado de Ojos Negros, Baja California Norte, Mexico; Avenida Juan Castro y Calle Cuarta, Poblado Ojos Negros, Ensenada, Baja California Norte, Mexico; DOB 17 Feb 1962; POB Real del Castillo, Ensenada, Baja California Norte; Citizen Mexico; Nationality Mexico; C.U.R.P. OEER620217HBCLSD08 (Mexico); (INDIVIDUAL) [SDNTK].

15. OLVERA ESTRADA, Arturo, c/o GENETICA GANADERA RANCHO ALEJANDRA S.P.R. DE R.L. DE C.V., Ensenada, Baja California Norte, Mexico; c/o GENETICA IMPORT-EXPORT S.P.R. DE R.L. DE C.V., Ensenada, Baja California Norte, Mexico; c/o CLUB DEPORTIVO OJOS NEGROS A.C., Conocido Poblado de Ojos Negros, Baja California Norte, Mexico; Calle Cuarta, Poblado Ojos Negros, Ensenada, Baja California Norte, Mexico; DOB 03 Sep 1951; POB San Antonio Ameca, Jalisco, Mexico; Citizen Mexico; Nationality Mexico; C.U.R.P. OEEA510903HJCLSR03 (Mexico); (INDIVIDUAL) [SDNTK].

16. WIDOBLO HERNANDEZ, Jose, c/o AERO EXPRESS INTERCONTINENTAL S.A. DE C.V., Mexico City, Distrito Federal, Mexico; Oriente 166 No. 235, Colonia Moctezuma, Mexico City, Distrito Federal, Mexico; DOB 10 Apr 1952; POB Mexico City, Distrito Federal, Mexico; Citizen Mexico; Nationality Mexico; C.U.R.P. WIHJ520410HDFDRS02 (Mexico); Passport 99400004049 (Mexico); (INDIVIDUAL) [SDNTK].

17. AMAYA ALEMAN, Onecimo Antonio, c/o AERO EXPRESS INTERCONTINENTAL S.A. DE C.V., Mexico City, Distrito Federal, Mexico; c/o CIRCUITO ELECTRONICO S.A. DE C.V., Tijuana, Baja California Norte, Mexico; c/o COPY RED S.A. DE C.V., Tijuana, Baja California Norte, Mexico; Calle Astronomos No. 2214, Colonia Indeco Universidad, Fraccionamiento Otay Universidad, Tijuana, Baja California Norte, Mexico; DOB 25 Feb 1965; POB Aramberri, Nuevo Leon, Mexico; Citizen Mexico; Nationality Mexico; C.U.R.P. AAAO650225HNLMLN03 (Mexico); R.F.C. AAAO-650225 (Mexico); Passport 01190032480 (Mexico); Driver's License No. 210057967 (Mexico); (INDIVIDUAL) [SDNTK].

Dated: October 13, 2010.
Adam J. Szubin,
Director, Office of Foreign Assets Control.

[FR Doc. 2010-26331 Filed 10-19-10; 8:45 am]

BILLING CODE 4810-AL-P